DEPARTMENT OF AGRICULTURE

Office of the Secretary

Privacy Act of 1974; Revision of Systems of Records and Proposed New Routine Uses

AGENCY: Office of the Secretary, USDA.

ACTION: Notice of revision of privacy act systems of records and proposed new routine uses.

SUMMARY: Notice is hereby given that the United States Department of Agriculture is proposing to change the (USDA) Privacy Act Systems of Records maintained by the Farm Service Agency (FSA) as follows: A new routine use would be added to two Privacy Act systems of records maintained by FSA.

EFFECTIVE DATE: The proposed routine uses will become effective November 9, 2001 unless modified by a subsequent notice to incorporate public comments. Comments must be received by October 10, 2001 to be assured consideration.

ADDRESSES: Interested persons may submit written comments to Diane Flores Korwin, Freedom of Information and Privacy Act (FOIA/PA) Specialist, Public Affairs Staff, Farm Service Agency, U.S. Department of Agriculture, Public Affairs, STOP 0506, 1400 Independence Avenue, SW., Washington, DC 20250-0506; telephone 202-720-5534. The public may inspect comments received on this notice Monday-Friday, except holidays, between 8:15 a.m. and 4:45 p.m. in Room 3625 at the address listed above.

FOR FURTHER INFORMATION CONTACT: Diane Flores Korwin, telephone 202-720-5534.

SUPPLEMENTARY INFORMATION: This notice concerns two of the Privacy Act systems of records maintained by FSA; USDA/FSA-2, “Farm Records File” and USDA/FSA-14, “Applicant/Borrower File.” The proposed revisions would provide disclosure of certain records in these files to State-certified or State-licensed appraisers, and to employees of other Federal agencies who are qualified to conduct real estate appraisals.

Disclosure of this information to State-certified or State-licensed appraisers, and to employees of other Federal agencies who are qualified to conduct real estate appraisals is a use of the information compatible with the specific administrative purposes for which the information was collected. Limited disclosure is clearly within FSA’s mandate to promote a viable agricultural economy, and is essential for effective implementation of appraisal standards established under of the Financial Institutions Reform Recovery and Enforcement Act (FIRREA) of 1989, 12, U.S.C. ch. 34A. Release of this producer and farm information relates to effective analyses of comparable properties and determinations of capitalization rates in connection with appraisers’ valuations of properties using the comparable sales and income approaches.

Appraisers’ ethical and other standards and general practices promulgated pursuant to the FIRREA provide safeguards against further dissemination of the information provided to persons outside USDA. Appraisals are confidential and may not be released to other parties without the approval of the appraiser and the client. Appraisal reports identify properties, but do not identify the owner by name, and those appraisers who violate the ethical standards are subject to discipline by State certification boards.

The FSA also publishes information regarding acreage allotments and marketing quotas for farms raising tobacco and peanuts as required by law. However, information concerning the acreage, yield, storage, and marketing by farmers engaged in production of tobacco and peanuts will only be released in a manner that does not identify the information furnished by individual producers. 7 U.S.C. 1373 prohibits release of this information in a form identifiable to an individual producer.

Pursuant to the Privacy Act, 5 U.S.C. 552a, USDA hereby takes the following action:

(1) USDA/FSA-2, “Farm Records File”

This system is being amended to add a routine use allowing the limited disclosure of Producer and Farm Information to State-certified or State-licensed appraisers and employees of Federal agencies other than USDA who are qualified to conduct real estate appraisals.

The specific information to be disclosed to the appraiser is:

— Production Flexibility Contract Acres

— Payment yields

— Agricultural use acres and cropland acres

— Copies of aerial photography

— Conservation Reserve Program (CRP) acres

— Highly erodible land (HEL) delineations

— Wetland classifications

Notwithstanding the foregoing, USDA will not release to appraisers information indicating the acreage, yield, storage and marketing of peanuts or tobacco if that information was requested by USDA and is necessary for the administration of Title III of the Agricultural Adjustment Act of 1938, 7 U.S.C. § 1361 et seq., unless the information to be released is in an aggregate form that does not identify the information furnished by any person. FSA will continue to make available for public inspection information regarding acreage allotments and farm marketing quotas established for farms as required by law.

(2) USDA/FSA-14, “Applicant/Borrower File”

This system is being amended to add a routine use allowing the limited disclosure of Producer and Farm Information to state-certified or state-licensed appraisers and employees of Federal agencies other than USDA who are qualified to conduct real estate appraisals.

The specific information to be disclosed to the appraiser is:

—Production Flexibility Contract Acres

—Payment yields

—Agricultural use acres and cropland acres

—Copies of aerial photography

—Conservation Reserve Program (CRP) acres

—Highly erodible land (HEL) delineations

—Wetland classifications

Notwithstanding the foregoing, USDA will not release to appraisers information indicating the acreage, yield, storage and marketing of peanuts or tobacco if that information was requested by USDA and is necessary for the administration of Title III of the Agricultural Adjustment Act of 1938, 7 U.S.C. 1361 et seq., unless the information to be released is in an aggregate form that does not identify the information furnished by any person. FSA will continue to make available for public inspection, information regarding acreage allotments and farm marketing quotas established for farms, as required by law.

Signed at Washington, DC, on August 31. 2001.
Ann M. Veneman,
Secretary.

USDA/FSA-2.

SYSTEM NAME:

Farm Records File (Automated), USDA/FSA-2.

SYSTEM LOCATION:

This system of records is under the control of the Deputy Administrator for Program Delivery and Field Operations, FSA, USDA, Stop 0539, PO Box 2415, Washington, DC 20013. The data will be maintained at the county FSA office which services the particular farm, the State FSA Office of the State where the particular county FSA office is located, the Kansas City Management Office, 8930 Ward Parkway, PO Box 419205, Kansas City, Missouri 64141-0205; the Kansas City Commodity Office, PO Box 419205, 9200 Ward Parkway, Kansas City, Missouri 64141-0205, and the FSA National Office. The address of each county and State FSA office can be found in the local telephone directory under the heading “United States Government, Department of Agriculture, Farm Service Agency.”

Categories of Individuals Covered by the System:

Farm owners, operators, and other producers.

Categories of Records in the System:

The information in the system consists of documentation of participation in the active programs as well as discontinued programs. This includes names and addresses of producers and is not necessarily limited to farm allotments, quotas, bases, and history; compliance data; production and marketing data; lease and transfer of allotments and quotas; appeals; new grower applications; conservation program documents; program participation and payment documents; appraisals, leases, and data for farm reconstitution; and, for payment limitation purposes, financial statements, and other applicable farm information as well such documents as tax statements, wills, trusts, partnership agreements, and corporate charters.

Authority for Maintenance of the System:

7 U.S.C. 135b, 450j, 450k, 405l, 1281-1393, 1421-1449, 1461-1469, 1471-1471i, 1781-1787; 15 U.S.C. 714-714p; 16 U.S.C. 590a-590q, 1301-1311, 1501-1510, 1606, 2101-2111, 2201-2205, 3501, 3801-3847, 4601, 5822; 26 U.S.C. 6109; 40 U.S.C. App. 1, 2, 203; 43 U.S.C. 1592; and 48 U.S.C. 1469.

PURPOSE(S):

To facilitate the Congressional mandate that FSA and CCC operate farm programs that control the price and supply of certain agricultural commodities, that protect the environment and that enhance the marketing and distribution of certain agricultural commodities.

ROUTINE USES OF RECORDS MAINTAINED IN THE SYSTEM, INCLUDING CATEGORIES OF USERS AND THE PURPOSES OF SUCH USES:

Records contained in this system may be disclosed:

(1) To a cooperative marketing association approved to carry out CCC rice support loan and marketing programs, but only that data regarding member and related individual participation in such programs;

(2) To the appropriate agency, whether Federal, State, local, or foreign, charged with the responsibility of investigating or prosecuting a violation of law, or of enforcing or implementing a statute, rule, regulation or order issued pursuant thereto, of any records within this system when information available indicates a violation or potential violation of law, whether civil, criminal or regulatory in nature and whether arising by general statute or particular program statute, or by rule, regulation or order issued pursuant thereto;

(3) To a court, magistrate, or administrative tribunal, or to opposing counsel in a proceeding before any of the above, of any record within the system which constitutes evidence in that proceeding, or which is sought in the course of discovery to the extent that records sought are relevant to the subject of the proceeding;

(4) To a congressional office from the record of an individual in response to an inquiry from the congressional office made at the request of that individual;

(5) To the Internal Revenue Service to establish the tax liability of individuals as required by the Internal Revenue Code;

(6) To State or local tax authorities having an agreement with CCC to withhold taxes or fees from loan proceeds;

(7) To the Bureau of Reclamation (BOR), but only that data necessary for the BOR to administer the Reclamation Act of 1982 as amended;

(8) To boards or other entities authorized by state statute to collect commodity assessments;

(9) To the Food Safety and Inspection Service;

(10) To the Peanut Board with respect to producers of peanuts and their participation in the peanut price support, production control and quota programs;

(11) To the Bureau of Indian Affairs the name and address of producers to assist in the distribution of funds to Native American Indians;

(12) To candidates for FSA county and/or community committee positions the names and addresses of producers in the county for the purpose of county committee elections;

(13) To tobacco analysis laboratories the producers' names and addresses as well as crop-specific data regarding tobacco being analyzed prior to the marketing of such tobacco;

(14) To the public who may inspect farm allotment and quota data for marketing quota crops as required by the Agricultural Act of 1938, as amended;

(15) To State Foresters the names and addresses of producers and crop-specific data regarding their operations with respect to forestry conservation practices;

(16) To cotton buyers the names of cotton producers;

(17) To cotton ginners the names, addresses and cotton acreages;

(18) To members of Congress the names and addresses of producers; and

(19) To the public when they need to obtain the names and addresses of producers who have loans with FSA or CCC to prevent such individual from purchasing commodity that has been placed under a CCC loan.

(20) To State or local taxing authorities or their contracted appraisal companies the name of and address of producers for tax appraisal purposes; and

(21) To State-certified or State-licensed appraisers and employees of Federal agencies other than USDA qualified to perform real estate appraisals.

The specific information to be disclosed to the appraiser is:

— Production Flexibility Contract Acres

— Payment yields

— Agricultural use acres and cropland acres

— Copies of aerial photography

— Conservation Reserve Program (CRP) acres

— Highly erodible land (HEL) delineations

— Wetland classifications

Notwithstanding the foregoing, USDA will not release to appraisers information indicating the acreage, yield, storage and marketing of peanuts or tobacco if that information was requested by USDA and is necessary for the administration of Title III of the Agricultural Adjustment Act of 1938, 7 U.S.C. 1361 et seq., unless the information to be released is in an aggregate form that does not identify the information furnished by any person. FSA will continue to make available for public inspection, information regarding acreage allotments and farm marketing quotas established for farms, as required by law.

POLICIES AND PRACTICES FOR STORING, RETRIEVING, ACCESSING, RETAINING, AND DISPOSING OF RECORDS IN THE SYSTEM:

STORAGE:

Records are maintained in file folders and Department computer systems at applicable locations as set out above under the heading “System Location'.

RETRIEVABILITY:

Records may be indexed by individual name, farm number, tax identification number, Social Security Number, or loan number.

SAFEGUARDS:

Records are kept in locked Government office buildings. Access to these records is limited to authorized FSA personnel and representatives. Records stored in computer files are protected by passwords and other electronic security systems. Additionally, any negotiable documents, such as warehouse receipts, are kept in a fireproof cabinet.

Retention and Disposal:

Program documents are destroyed within 6 years after end of participation, except for conservation program documents, which are retained for periods sufficient to insure compliance equal to the life of the practice. Other documents, such as powers of attorney or leases, are destroyed after such document is no longer valid. Original loan notes are returned to producers after liquidation of loan.

SYSTEM MANAGER(S) AND ADDRESS:

Deputy Administrator for Program Delivery and Field Operations, FSA, USDA, Stop 0539, PO Box 2415, Washington, DC 20013.

NOTIFICATION PROCEDURE:

An individual may request information regarding this system of records, or information as to whether the system contains records pertaining to the individual from the System Manager listed above.

RECORD ACCESS PROCEDURES:

An individual may obtain information about a record in the system which pertains to such individual by submitting a written request to the above listed System Manager. The envelope and letter should be marked “Privacy Act Request.” A request for information pertaining to an individual should contain: name, address, ZIP code, name of system of record, year of records in question, and any other pertinent information to help identify the file.

Contesting Record Procedures:

Individuals desiring to contest or amend information maintained in the system should direct their request to the above listed System Manager, and should include the reason for contesting it and the proposed amendment to the information with supporting information to show how the record is inaccurate. A request for contesting records pertaining to an individual should contain: name, address, ZIP code, name of system of record, year of records in question, and any other pertinent information to help identify the file.

Record Source Categories:

Information in this system is submitted by county and State Committees and their representatives, the Office of Inspector General and other investigatory agencies, the Office of the General Counsel, the Kansas City Commodity Office, the Kansas City Management Office, the Natural Resources and Conservation Service and by third parties and by the individual who is the subject of the file.

USDA/FSA-14

SYSTEM NAME:

Applicant/Borrower, USDA/FSA-14.

SYSTEM LOCATION:

Each Farm Service Agency (FSA) applicant's/borrower's records are located in the Agricultural Credit Team Office, County, District, or State Office through which the financial assistance is sought or was obtained, and electronic account records are in the Finance Office in St. Louis, Missouri. A State Office version of the Team Office, County or District office file may be located in or accessible by the State Office which is responsible for that Agricultural Credit Team, County or District Office. Correspondence regarding borrowers is located in the Agricultural Credit Team, County, District, State and National Office files. The addresses of Agricultural Credit Team, County, District and State Offices are listed in the telephone directory of the appropriate city or town under the heading “United States Government, Department of Agriculture, Farm Service Agency.” The Finance Office is located at 1520 Market Street, St. Louis, Missouri 63103.

Categories of Individuals Covered by the System:

Present and former FSA applicants/borrowers and their respective household members including members of associations.

CATEGORIES OF RECORDS IN THE SYSTEM:

The system includes files containing characteristics of applicants/borrowers and their respective household members, such as gross and net income, sources of income, capital, assets and liabilities, net worth, age, race, number of dependents, marital status, reference material, farm or ranch operating plans, and property appraisals.

The system also includes credit reports and personal references from credit agencies, lenders, businesses, and individuals. In addition, a running record of observation concerning the operations of the person being financed is included. A record of deposits to and withdrawals from an individual's supervised bank account is also contained in those files where appropriate. In some Agricultural Credit Team and County Offices, this record is maintained in a separate folder containing only information relating to activity within supervised bank accounts. Some items or information are extracted from the individual's file and placed in a card file for quick reference.

AUTHORITY FOR MAINTENANCE OF THE SYSTEM:

7 U.S.C. 1921 et. seq., 42 U.S.C. 1471 et. seq., and 42 U.S.C. 2706.

ROUTINE USES OF RECORDS MAINTAINED IN THE SYSTEM, INCLUDING CATEGORIES OF USERS AND THE PURPOSES OF SUCH USES:

Records contained in this system may be disclosed:

(1) To the appropriate agency, whether Federal, State, local, tribal, foreign, or other public authority foreign, charged with the responsibility of investigating or prosecuting a violation of law, or of enforcing or implementing a statute or a rule, regulation or order issued pursuant thereto, or of any record within this system when information available indicates a violation or potential violation of law, whether civil, criminal or regulatory in nature, and whether arising by general statute or particular program statute, or by rule, regulation or order issued pursuant thereto, if the information disclosed is relevant to any enforcement, regulatory, investigative, or prosecutive responsibility of the receiving agency;

(2) To business firms in a trade area that buy chattel or crops or sell them for commission. The disclosure may include the name, home address, social security numbers and financial information. This is being done so that FSA may benefit from the purchaser notification provisions of section 1324 of the Food Security Act of 1985 (7 U.S.C. 163(e)). The Act requires that potential purchasers of farm commodities must be advised ahead of time that a lien exists in order for the creditor to perfect its lien against such purchases;

(3) To the appropriate authority when a default involves a security interest in tribal allotted or trust land. The disclosure may include the name, home address, and information concerning default on loan repayment. Pursuant to the Cranston-Gonzales National Affordable Housing Act of 1990 (42 U.S.C. 12701 et. seq.), liquidation may be pursued only after offering to transfer the account to an eligible tribal member, the tribe, or the Indian housing authority serving the tribe(s);

(4) To a congressional office from the record of an individual in response to an inquiry from the congressional office made at the written request of that individual;

(5) To a collection or servicing contractor, financial institution, or a local, State, or Federal agency, when FSA determines such referral is appropriate for servicing or collecting the borrower's account or as provided in contracts with servicing or collection agencies. The disclosure may include name, home address, social security number, and financial information;

(6) In a proceeding before a court or adjudicative body, when: (a) The agency or any component thereof; or (b) any employee of the agency in his or her official capacity; or (c) any employee of the agency in his or her individual capacity where the agency has agreed to represent the employee; or (d) the United States is a party to litigation or has an interest in such litigation and, by careful review, the agency determines that the records are both relevant and necessary to the litigation, provided, however, that in each case, the agency determines that disclosure of the records is a use of the information contained in the records that is compatible with the purpose for which the agency collected the records;

(7) To financial consultants, advisors, lending institutions, packagers, agents, and private or commercial credit sources when FSA determines such referral is appropriate to encourage the borrowers to refinance their FSA indebtedness as required by Title V of the Housing Act of 1949, as amended (42 U.S.C. 1471). The disclosure may include name, home address, and financial information for selected borrowers;

(8) To the Department of the Treasury, Internal Revenue Service (IRS), any legally enforceable debt(s), to be offset against any tax refund that may become due the debtor for the tax year in which the referral is made, in accordance with the IRS regulations at 26 CFR 301.6402-6T, Offset of Past Due Legally Enforceable Debt Against Overpayment, and under the authority contained in 31 U.S.C. 3720A;

(9) To the Defense Manpower Data Center, Department of Defense, and the United States Postal Service any information regarding indebtedness, for the purpose of conducting computer matching programs to identify and locate individuals receiving Federal salary or benefit payments and who are delinquent in their repayment of debts owed to the U.S. Government under certain programs administered by the FSA in order to collect debts under the provisions of the Debt Collection Act of 1982 (Pub. L. 97-365) by voluntary repayment, administrative or salary offset procedures, or by collection agencies;

(10) To lending institutions any financial information when FSA determines the individual may be financially capable of qualifying for credit with or without a guarantee. The referral may contain name, home address, and financial information;

(11) To lending institutions that have a lien against the same property as FSA, for the purpose of the collection of the debt. These loans can be under the direct or guaranteed loan programs. Disclosure may include names, home addresses, social security numbers, and financial information;

(12) To private attorneys under contract with either FSA or with the Department of Justice for the purpose of foreclosure and possession actions and collection of past due accounts in connection with FSA loans;

(13) To the Department of Justice when: (a) The agency or any component thereof; or (b) any employee of the agency in his or her official capacity where the Department of Justice has agreed to represent the employee; or (c) the United States Government is a party to litigation or has an interest in such litigation, and by careful review, the agency determines that the records are both relevant and necessary to the litigation and the use of such records by the Department of Justice is therefore deemed by the agency to be for a purpose that is compatible with the purpose for which the agency collected the records;

(14) To the Department of Housing and Urban Development (HUD) as a record of location utilized by Federal agencies for an automatic credit prescreening system. The disclosure may include names, home addresses, social security numbers, and financial information;

(15) To the Department of Labor, State Wage Information Collection agencies, and other Federal, State, and local agencies, as well as those responsible for verifying information furnished to qualify for Federal benefits, to conduct wage and benefit matching through manual and/or automated means, for the purpose of determining compliance with Federal regulations and appropriate servicing actions against those not entitled to program benefits, including possible recovery of improper benefits. This may include names, home addresses, social security numbers, and financial information; and

(16) To financial consultants, advisors, or underwriters, when FSA determines such referral is appropriate for developing packaging and marketing strategies involving the sale of FSA loan assets. The referral may include names, home addresses, and financial information; and

(17) To state-certified or state-licensed appraisers and employees of Federal agencies other than USDA qualified to perform real estate appraisals.

The specific information to be disclosed to the appraiser is:

—Production Flexibility Contract Acres

—Payment yields

—Agricultural use acres and cropland acres

—Copies of aerial photography

—Conservation Reserve Program (CRP) acres

—Highly erodible land (HEL) delineations

—Wetland classifications

Notwithstanding the foregoing, USDA will not release to appraisers information indicating the acreage, yield, storage and marketing of peanuts or tobacco if that information was requested by USDA and is necessary for the administration of title III of the Agricultural Adjustment Act of 1938, 7 U.S.C. 1361 et seq., unless the information to be released is in an aggregate form that does not identify the information furnished by any person. FSA will continue to make available for public inspection information regarding acreage allotments and farm marketing quotas established for farms as required by law.

DISCLOSURE TO CONSUMER REPORTING AGENCIES:

Disclosure pursuant to 5 U.S.C. 552a(b)(12): Disclosure may be made from this system to “consumer reporting agencies” as defined in the Fair Credit Reporting Act (15 U.S.C. 1681a(f) or the Federal Claims Collection Act (31 U.S.C. 3701(a)(3)).

POLICIES AND PRACTICES FOR STORING, RETRIEVING, ACCESSING, RETAINING, AND DISPOSING OF RECORDS IN THE SYSTEM:

STORAGE:

Records are maintained electronically and in file folders at the Agricultural Credit Team, County, District, State, and National offices. A limited subset of personal, financial and characteristics data required for effective management of the programs and borrower repayment status is maintained on disk or magnetic tape at the Finance Office. This subset of data may be accessed by the authorized personnel from each office.

RETRIEVABILITY:

Records are indexed by name, identification number and type of loan. Data may be retrieved from paper records or the magnetic tapes. A limited subset is available through telecommunications capability, ranging from telephones to intelligent terminals. All FSA Agricultural Credit Team, State, National and some county offices have the telecommunications capability available to access this subset of data.

SAFEGUARDS:

Records are kept in locked offices at the Agricultural Credit Team, County, District, State and National Offices. A limited subset of data is also maintained in a tape and disk library and an on-line retrieval system at the Finance Office. Access is restricted to authorized FSA personnel. A system operator and terminal passwords and code numbers are used to restrict access to the online system. Passwords and code numbers are changed as necessary.

RETENTION AND DISPOSAL:

Records are maintained subject to the Federal Records Disposal Act of 1943 (44 U.S.C. 366-380) and in accordance with FSA's disposal schedules. The Agricultural Credit Team, District, County, State and National office dispose of records by shredding, burning, or other suitable disposal methods after established retention periods have been fulfilled. Finance Office records are disposed of by overprinting. (Destruction methods may never compromise the confidentiality of information contained in the records). Applications, including credit reports and personal references which are rejected, withdrawn, or otherwise terminated, are kept in the Agricultural Credit, County, District, or State office for 2 full fiscal years and 1 month after the end of the fiscal year in which the application was rejected, withdrawn, canceled, or expired. If final action was taken on the application, including an appeal, investigation, or litigation, the application is kept for 1 full fiscal year after the end of the fiscal year in which final action was taken. The records, including credit reports, of borrowers who have paid or otherwise satisfied their obligations are retained at the Agricultural Credit Team, County, District, or State Office for 1 full fiscal year after the fiscal year in which the loan was paid in full. Correspondence records at the National Office which concern borrowers and applicants are retained for 3 full fiscal years after the last year in which there was correspondence.

SYSTEM MANAGER(S) AND ADDRESS:

The Agricultural Credit Manager at the Agricultural Credit Team Office or at the County Office, District Director at the District Office, and the State Executive Director at the State Office, the Assistant Administrator of the Finance Office for Finance Office in St. Louis, MO, and the FSA Administrator for the National Office at the following address: USDA/FSA Administrator, Stop 0501, PO 2415, Washington, DC 20250-2415.

NOTIFICATION PROCEDURE:

Any individual may request information regarding this system of records, or determine whether the system contains records pertaining to themselves from the appropriate Systems Manager. If specific location of the record is not known, the individual should address their request to: Administrator, FSA, Attention: Freedom of Information Officer, Stop 0506, PO Box 2415, Washington, DC 20013-2415. A request for information should include: name, address, State and county where the loan was applied for or approved, and particulars involved (i.e. date of request/approval, type of loan, etc.).

RECORD ACCESS PROCEDURES:

Any individual may obtain information as to the procedures for gaining access to a record in this system which pertains to themselves by submitting a written request to one of the Systems Managers. The envelope and letter should be marked “Privacy Act Request.” A request for information should contain: name, address, ZIP code, name of the system of records in question, and any other pertinent information to help identify the file.

CONTESTING RECORD PROCEDURES:

Individuals desiring to contest or amend information maintained in the system should direct their request to the above listed System Manager, and should include the reason for contesting it and the proposed amendment to the information with supporting information to show how the record is inaccurate. A request for contesting records should contain: name, address, ZIP code, name of the system of records in question, and any other pertinent information to help identify the file.

RECORD SOURCE CATEGORIES:

Information in this system comes primarily from the borrower. Credit reports and personal references come primarily from credit agencies and creditors.

EXEMPTIONS CLAIMED FOR THE SYSTEM:

None.

[FR Doc. 01-22579 Filed 9-7-01; 8:45 am]

BILLING CODE 3410-05-P